COMMITTEE FOR PURCHASE FROM PEOPLE WHO ARE BLIND OR SEVERELY DISABLED

Procurement List; Additions And Deletions

AGENCY: Committee for Purchase From People Who Are Blind or Severely Disabled.

ACTION: Additions to and deletions from the Procurement List.

SUMMARY: This action adds products to the Procurement List that will be furnished by nonprofit agencies employing persons who are blind or have other severe disabilities, and deletes products from the Procurement List previously furnished by such agencies.

DATES: Effective February 19, 2017.

ADDRESSES: Committee for Purchase From People Who Are Blind or Severely Disabled, 1401 S. Clark Street, Suite 715, Arlington, Virginia 22202-4149.

FOR FURTHER INFORMATION CONTACT: Amy B. Jensen, Telephone: (703) 603-2132, Fax: (703) 603-0655, or email CMTEFedReg@AbilityOne.gov.

SUPPLEMENTARY INFORMATION:

Additions

On 12/16/2016 (81 FR 91140-91141), the Committee for Purchase From People Who Are Blind or Severely Disabled published notice of proposed additions to the Procurement List.

After consideration of the material presented to it concerning capability of qualified nonprofit agencies to provide the products and impact of the addition on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s): 6645-01-NIB-0153—Clock, LCD Digital Display, Radio-Controlled, Silver, 9.75″ x 7.25″ x 1″

Mandatory Source(s) of Supply: Chicago Lighthouse Industries, Chicago, IL

Mandatory for: Total Government Requirement

Contracting Activity: General Services Administration, New York, NY

Distribution: A-List

NSN(s)—Product Name(s): MR 357—Tumblers, Red, White and Blue, Includes Shipper 10357

Mandatory Source(s) of Supply: Industries for the Blind, Inc., West Allis, WI

Mandatory for: Military commissaries and exchanges in accordance with the Code of Federal Regulations, Chapter 51, 51-6.4

Contracting Activity: Defense Commissary Agency

Distribution: C-List

Deletions

On 12/16/2016 (81 FR 91140-91141), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 8520-00-NIB-0116—PURELL/SKILCRAFT Instant Hand Sanitzer, Gel, 1200ml

Mandatory Source(s) of Supply: Travis Association for the Blind, Austin, TX

Contracting Activity: Department of Veterans Affairs, Strategic Acquisition Center

NSN(s)—Product Name(s): 8950-01-E60-5752—Garlic Powder, 160 oz. Container, 5 lb. per container, 3/CS

Mandatory Source(s) of Supply: CDS Monarch, Webster, NY

Contracting Activities: Department of Veterans Affairs, Defense Logistics Agency Troop Support

NSN(s)—Product Name(s): 5340-01-527-6885—Clamp, Loop, CRES, 1/2″ loop x 1/2″ wide

Mandatory Source(s) of Supply: Provail, Seattle, WA

Contracting Activity: Defense Logistics Agency Troop Support

Patricia Briscoe,
Deputy Director, Business Operations Pricing and Information Management.

[FR Doc. 2017-01400 Filed 1-19-17; 8:45 am]

BILLING CODE 6353-01-P